DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on November 26, 2024. See Supplementary Information for relevant dates.

FOR FURTHER INFORMATION CONTACT: OFAC: Associate Director for Global Targeting, 202-622-2420; or Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On November 26, 2024, OFAC determined that the persons identified below meet one or more of the criteria for the imposition of sanctions set forth in section 1(a)-(c) of Executive Order 14059 of December 15, 2021, “Imposing Sanctions on Foreign Persons Involved in the Global Illicit Drug Trade,” 86 FR 71549 (December 17, 2021) (E.O. 14059). OFAC has selected to impose blocking sanctions pursuant to section 2(a)(i) of E.O. 14059 on the persons identified below.

Individuals

1. CARRILLO SAPIEN, Ildelfonso (a.k.a. CARRILLO SAPIEN, Idelfonso; a.k.a. “El Chivo”), Mexico; DOB 21 Aug 1976; POB Veracruz, Mexico; nationality Mexico; Gender Male; C.U.R.P. CASI760821HVZRPL04 (Mexico) (individual) [ILLICIT-DRUGS-EO14059] (Linked To: GULF CARTEL).

Designated pursuant to section (1)(b)(iii) of E.O. 14059 for being owned, controlled, or directed by, or having acted or purported to act for or on behalf of, directly or indirectly, Gulf Cartel, a person sanctioned pursuant to E.O. 14059.

2. DECUIR GARCIA, Raul (a.k.a. “La Burra”), Mexico; DOB 14 Mar 1971; POB Tamaulipas, Mexico; nationality Mexico; Gender Male; C.U.R.P. DEGR710314HVZCRL01 (Mexico) (individual) [ILLICIT-DRUGS-EO14059] (Linked To: GULF CARTEL).

Designated pursuant to section (1)(b)(iii) of E.O. 14059 for being owned, controlled, or directed by, or having acted or purported to act for or on behalf of, directly or indirectly, Gulf Cartel, a person sanctioned pursuant to E.O. 14059.

3. GUERRA SALINAS, Ismael (a.k.a. “El Comandante”; a.k.a. “Mayelo”), Mexico; DOB 01 Jun 1990; POB Tamaulipas, Mexico; nationality Mexico; Gender Male; C.U.R.P. GUSI900601HTSRLS09 (Mexico) (individual) [ILLICIT-DRUGS-EO14059] (Linked To: GULF CARTEL).

Designated pursuant to section (1)(b)(iii) of E.O. 14059 for being owned, controlled, or directed by, or having acted or purported to act for or on behalf of, directly or indirectly, Gulf Cartel, a person sanctioned pursuant to E.O. 14059.

4. GUERRA SALINAS, Omar (a.k.a. “Samorano”), Mexico; DOB 11 Apr 1986; POB Tamaulipas, Mexico; nationality Mexico; Gender Male; C.U.R.P. GUSO860411HTSRLM03 (Mexico) (individual) [ILLICIT-DRUGS-EO14059] (Linked To: GULF CARTEL).

Designated pursuant to section (1)(b)(iii) of E.O. 14059 for being owned, controlled, or directed by, or having acted or purported to act for or on behalf of, directly or indirectly, Gulf Cartel, a person sanctioned pursuant to E.O. 14059.

5. SIERRA ANGULO, Francisco Javier (a.k.a. “El Borrado”), Mexico; DOB 24 Dec 1988; POB Tamaulipas, Mexico; nationality Mexico; Gender Male; C.U.R.P. SIAF881224HTSRNR05 (Mexico) (individual) [ILLICIT-DRUGS-EO14059] (Linked To: GULF CARTEL).

Designated pursuant to section (1)(b)(iii) of E.O. 14059 for being owned, controlled, or directed by, or having acted or purported to act for or on behalf of, directly or indirectly, Gulf Cartel, a person sanctioned pursuant to E.O. 14059.

Lisa M. Palluconi,
Acting Director, Office of Foreign Assets Control.

[FR Doc. 2024-28166 Filed 11-29-24; 8:45 am]

BILLING CODE 4810-AL-P